DEPARTMENT OF COMMERCE

National Oceanic and Atmospheric Administration

[I.D. 041000C]

Availability of a Draft Environmental Assessment/Finding of No Significant Impact and Receipt of an Application for an Incidental Take Permit (1248)

AGENCY: National Marine Fisheries Service (NMFS), National Oceanic and Atmospheric Administration, Commerce.

ACTION: Notice of availability.

SUMMARY: NMFS has received an application for an incidental take permit (Permit) from the Washington Department of Fish and Wildlife (WDFW) according to the Endangered Species Act of 1973, as amended (ESA). As required by the ESA, WDFW has also prepared a conservation plan (Plan) designed to minimize and mitigate any such take of endangered or threatened species. The Permit application is for the incidental take of ESA-listed adult and juvenile salmonids associated with otherwise lawful recreational fisheries on non-listed species in the upper Columbia River and its tributaries in the state of Washington. The duration of the proposed Permit and Plan is five years. The Permit application includes the proposed Plan submitted by WDFW. NMFS also announces the availability of a draft Environmental Assessment (EA) for the Permit application. NMFS is furnishing this notice in order to allow other agencies and the public an opportunity to review and comment on these documents. All comments received will become part of the public record and will be available for review pursuant to the ESA.

DATES: Written comments from interested parties on the Permit application, Plan, and draft EA must be received at the appropriate address or fax number (see ADDRESSES) no later than 5:00 pm Pacific daylight time on May 19, 2000.

ADDRESSES: Written comments on the application, Plan, or draft EA should be sent to Lance Kruzic, Sustainable Fisheries Division, F/NWR3, 525 NE Oregon Street, Suite 510, Portland, OR 97232-2737. Comments may also be sent via fax to 503-872-2737. Comments will not be accepted if submitted via e-mail or the internet. Requests for copies of the Permit application, Plan, and draft EA should be directed to the Sustainable Fisheries Division, F/NWO3, 525 NE Oregon Street, Suite 510, Portland, OR 97232-2737. Comments received will also be available for public inspection, by appointment, during normal business hours by calling 503-230-5407.

FOR FURTHER INFORMATION CONTACT: Lance Kruzic, Portland, OR (ph: 503-231-2178, fax: 503-872-2737, e-mail: Lance.Kruzic@noaa.gov).

SUPPLEMENTARY INFORMATION: Section 9 of the ESA and Federal regulations prohibit the “taking” of a species listed as endangered or threatened. The term “take” is defined under the ESA to mean harass, harm, pursue, hunt, shoot, wound, kill, trap, capture, or collect, or to attempt to engage in any such conduct. NMFS may issue permits, under limited circumstances, to take listed species incidental to, and not the purpose of, otherwise lawful activities. NMFS regulations governing permits for threatened and endangered species are promulgated at 50 CFR 222.307.

Species Covered in This Notice

The following species, evolutionarily significant units (ESU's), and runs are included in the Plan and Permit application:

Chinook salmon (Oncorhynchus tshawytscha): endangered naturally produced and artificially propagated upper Columbia River (UCR) spring.

Steelhead (O. mykiss): endangered naturally produced and artificially propagated UCR.

Background

On March 13, 2000, WDFW submitted an application to NMFS for an ESA section 10(a)(1)(B) permit for an incidental take of ESA-listed anadromous fish species associated with seven recreational fishery programs to be conducted above Priest Rapids Dam on the Columbia River and its tributaries from 2000 to 2004. Currently, this includes endangered spring chinook salmon and steelhead in the UCR Evolutionarily Significant Units (ESUs). The proposed fisheries solely target resident trout, smallmouth bass, walleye, sturgeon, whitefish, and non-listed chinook salmon. The proposed implementation of these fisheries will allow fishing for recreational purposes and will provide economic opportunity for local communities through the sale of licences, equipment, and the conduct of other financial transactions related to the recreational fisheries.

Conservation Plan

The Conservation Plan prepared by WDFW describes measures designed to monitor, minimize, and mitigate the incidental takes of ESA-listed anadromous salmonids associated with some or all of the following fisheries that are expected to occur during 2000 through 2004:

Rainbow, Cutthroat, and Brook Trout Sport Fishery

This fishery is scheduled to occur June 1 through September 30 in the mainstem Methow River, and two of its tributaries, the Chewuch and Twisp rivers. However, due to stream runoff, angling typically occurs after the first part of July. The regulations for this fishery are catch and release of trout only using unscented, artificial flies and lures with single, barbless hooks. Bait is prohibited.

Summer/Fall Chinook Salmon Sport Fishery

Summer/fall chinook salmon in the UCR region are not listed under the ESA. Angling for summer/fall chinook salmon above Priest Rapids Dam is allowed from September 16 to December 31. However, most of the angling only occurs until the middle of October.

Leavenworth Hatchery Spring Chinook Salmon Sport Fishery

Spring chinook salmon returning to Leavenworth Hatchery are not indigenous to the ESU and were not included as part of the ESU. Inseason run abundance of hatchery and wild spring chinook salmon returning to the UCR determines if and when the harvest of hatchery chinook salmon will be allowed. This fishery typically occurs in May and June. Angling is allowed only from the mouth of Icicle Creek upstream to 400 feet below the Leavenworth Hatchery adult collection facility.

Smallmouth Bass Sport Fisheries

This fishery is open year round under permanent state regulations in the mainstem Columbia River and Okanogan River below Malott Bridge. However, most angling occurs after spring runoff (July through September) when streamflows and warmer water permit successful angling. Anglers typically use buoyant plugs and soft bodied jigs.

Walleye Sport Fisheries

The walleye fishery is open year round under permanent state regulations in the mainstem Columbia River, with most angling occurring between January and April, when the fish aggregate prior to spawning. Most of the fishing occurs below the tailraces of the mainstem Columbia River dams. Fishing tackle typically includes soft body grubs, buoyant plugs, and spinner baits.

Sturgeon Sport Fishery

A year round, catch and release only, sturgeon fishery occurs under permanent state regulations in the mainstem Columbia River. Limited angling occurs in the mainstem river above Priest Rapids Dam using very large hooks (>4/0) with bait. Fishing occurs primarily in the deep water areas.

Whitefish Sport Fishery

This fishery is proposed to occur from December 1 through March 3 of each year. Use of bait is allowed if hooks are size #14 (3/16 hook gap size) or smaller. Fishing is limited to the following specific locations: Chewuch River from the mouth to the Pasayten Wilderness boundary, Methow River from the mouth to the falls above Brush Creek, Similkameen River from the mouth to the Canadian border, Entiat River from the mouth to Entiat Falls, and the Wenatchee River from the mouth to Highway 2 bridge at Leavenworth.

Other Gamefish and Non-gamefish Sport Fisheries

In addition to the fish species listed above, over 20 other species may be incidentally taken by anglers while fishing in the specific areas above.

Incidental mortalities of ESA-listed fish associated with the WDFW recreational fishery programs are requested at levels specified in the Permit application. WDFW is proposing to limit state recreational fisheries such that the incidental impacts on ESA-listed salmonids will be minimized. Two alternatives for the WDFW fisheries were provided in the Plan, including: (1) the no action alternative; (2) and the proposed conservation plan alternative (based on implementation of the fisheries with a comprehensive monitoring program).

Environmental Assessment/Finding of No Significant Impact

The EA package includes a draft EA and a draft Finding of No Significant Impact (FONSI) which concludes that issuing the incidental take permit is not a major Federal action significantly affecting the quality of the human environment, within the meaning of section 102(2)(C) of the National Environmental Policy Act (NEPA) of 1969, as amended. Three Federal action alternatives have been analyzed in the EA, including: (1) the no action alternative; (2) issue a permit without conditions; and (3) issue a permit with conditions.

This notice is provided pursuant to section 10(c) of the ESA and the NEPA regulations (40 CFR 1506.6). NMFS will evaluate the application, associated documents, and comments submitted thereon to determine whether the application meets the requirements of the NEPA regulations and section 10(a) of the ESA. If it is determined that the requirements are met, a permit will be issued for incidental takes of ESA-listed anadromous salmonids under the jurisdiction of NMFS. The final NEPA and permit determinations will not be completed until after the end of the 30-day comment period and will fully consider all public comments received during the comment period. NMFS will publish a record of its final action in the Federal Register.

Dated: April 13, 2000.
Craig Johnson,
Acting Chief, Endangered Species Division, Office of Protected Resources, National Marine Fisheries Service.

[FR Doc. 00-9843 Filed 4-18-00; 8:45 am]

BILLING CODE 3510-22-F